INTERNATIONAL TRADE COMMISSION

[Investigation No. 731-TA-1111 (Final)]

Glycine From India, Japan, and Korea

AGENCY: United States International Trade Commission.

ACTION: Revised schedule for the subject investigations.

DATES: Effective Date: November 9, 2007.

FOR FURTHER INFORMATION CONTACT: Russell Duncan (202-708-4727), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

SUPPLEMENTARY INFORMATION: On September 28, 2007, the Commission established a schedule for the conduct of the final phase of the subject investigations (72 FR 55247). Although the Department of Commerce (“Commerce”) had not yet made its preliminary less than fair value determination (“LTFV”) regarding India, the Commission, for administrative purposes, included India in the investigation schedule, pending Commerce's preliminary LTFV determination. On November 7, 2007, Commerce issued its preliminary determination in the investigation of glycine from India (72 FR 62827; as amended 72 FR 62826). The Commission, therefore, is revising its schedule with respect to the investigation concerning India.

The Commission's revised schedule with respect to India is as follows: A supplemental brief addressing only Commerce's final antidumping duty determination is due on February 11, 2008. The brief may not exceed five (5) pages in length.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

Issued: November 13, 2007.
By order of the Commission.
Marilyn R. Abbott,
Secretary to the Commission,

[FR Doc. E7-22538 Filed 11-16-07; 8:45 am]

BILLING CODE 7020-02-P